DEPARTMENT OF COMMERCE

International Trade Administration

[C-489-806]

Certain Pasta From the Republic of Turkey: Preliminary Results of Countervailing Duty Administrative Review; 2019

AGENCY: Enforcement and Compliance, International Trade Administration, Department of Commerce.

SUMMARY: The Department of Commerce (Commerce) preliminarily determines that countervailable subsidies are not being provided to Bessan Makarna Gida San. ve Tic. A.S., a producer/exporter of certain pasta from the Republic of Turkey. The period of review (POR) is January 1, 2019, through December 31, 2019. Interested parties are invited to comment on these preliminary results.

DATES: Applicable August 3, 2021.

FOR FURTHER INFORMATION CONTACT: Theodore Pearson or Richard Roberts, AD/CVD Operations, Office I, Enforcement and Compliance, International Trade Administration, U.S. Department of Commerce, 1401 Constitution Avenue NW, Washington, DC 20230; telephone: 202-482-2631 or 202-482-3464, respectively.

SUPPLEMENTARY INFORMATION:

Background

On July 14, 1996, Commerce published in the Federal Register the countervailing duty (CVD) order on certain pasta from the Republic of Turkey (Turkey).¹ On September 3, 2020, Commerce published an initiation notice for an administrative review of the Order.² On March 19, 2021 Commerce extended the deadline for these preliminary results to no later than July 30, 2021.³ For a complete description of the events that followed the Initiation Notice, see the Preliminary Decision Memorandum.⁴

¹ See Countervailing Duty Order; Certain Pasta from Turkey, 61 FR 38546 (July 14, 1996) (Order).

² See Initiation of Antidumping and Countervailing Duty Administrative Reviews, 85 FR 19730 (April 8, 2020).

³ See Memorandum, “Extension of Deadline for Preliminary Results of Countervailing Duty Administrative Review; 2019,” dated March 19, 2021.

⁴ See Memorandum, “Decision Memorandum for the Preliminary Results of 2019 Countervailing Duty Administrative Review: Pasta from Turkey,” dated concurrently with, and hereby adopted by, this notice (Preliminary Decision Memorandum).

Scope of the Order

The products covered by the Order are certain pasta from Turkey. For a complete description of the scope of the Order, see the Preliminary Decision Memorandum.

Methodology

Commerce is conducting this review in accordance with section 751(a)(1)(A) of the Tariff Act of 1930, as amended (the Act). For a full description of the methodology underlying our preliminary conclusions, see the Preliminary Decision Memorandum.

The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at http://enforcement.trade.gov/frn/index.html. A list of topics discussed in the Preliminary Decision Memorandum is included as an appendix to this notice.

Preliminary Results of the Review

In accordance with 19 CFR 351.221(b)(4)(i), we preliminarily determine that Bessan did not receive countervailable subsidies during the POR:

Producer/exporter | Subsidy rate (percent)
Bessan Makarna Gida San. ve Tic. A.S | 0.00

Disclosure and Public Comment

We did not perform calculations for these preliminary results and, consequently, we do not have calculations to disclose in accordance with 19 CFR 351.224(b). Interested parties may submit written comments (case briefs) on the preliminary results no later than 30 days from the date of publication of this Federal Register notice,⁵ and rebuttal comments (rebuttal briefs) within seven days after the time limit for filing case briefs.⁶ Pursuant to 19 CFR 351.309(d)(2), rebuttal briefs must be limited to issues raised in the case briefs. Parties who submit arguments are requested to submit with the argument: (1) A statement of the issue; (2) a brief summary of the argument; and (3) a table of authorities.⁷ All briefs must be filed electronically using ACCESS. All briefs must be filed electronically using ACCESS.

⁵ See 19 CFR 351.309(c).

⁶ See 19 CFR 351.309(d)(i); see also Temporary Rule Modifying AD/CVD Service Requirements Due to COVID-19, 85 FR 17006, 17007 (March 26, 2020).

⁷ See 19 CFR 351.309(c)(2) and (d)(2).

Pursuant to 19 CFR 351.310(c), interested parties who wish to request a hearing, limited to issues raised in the case and rebuttal briefs, must submit a written request to the Assistant Secretary for Enforcement and Compliance, U.S. Department of Commerce, within 30 days after the date of publication of this notice. Hearing requests should contain: (1) The party's name, address, and telephone number; (2) the number of participants, whether any participant is a foreign national; and (3) a list of the issues to be discussed. If a request for a hearing is made, Commerce intends to hold the hearing at a date and time to be determined.⁸

⁸ See 19 CFR 351.310(c).

An electronically-filed document must be received successfully in its entirety by ACCESS by 5:00 p.m. Eastern Time on the established deadline. Parties are reminded that briefs and hearing requests are to be filed electronically using ACCESS and that electronically filed documents must be received successfully in their entirety by 5 p.m. Eastern Time on the due date. Note that Commerce has temporarily modified certain of its requirements for serving documents containing business proprietary information, until further notice.⁹

⁹ See Temporary Rule Modifying AD/CVD Service Requirements Due to COVID-19; Extension of Effective Period, 85 FR 41363 (July 10, 2020).

Commerce intends to issue the final results of this administrative review, including the results of our analysis of the issues raised by the parties in their comments, no later than 120 days after the date of publication of this notice, pursuant to section 751(a)(3)(A) of the Act and 19 CFR 351.213(h), unless this deadline is extended.

Assessment Rates

Consistent with 19 CFR 351.212(b)(4)(i), upon completion of the final results, consistent with 751(a)(1) of the Act and 19 CFR 351.212(b)(2), Commerce shall determine, and U.S. Customs and Border Protection (CBP) shall assess, countervailing duties on all appropriate entries covered by this review. If Commerce continues to find that Bessan received no countervailable subsidies in the final results, Commerce intends to instruct CBP to liquidate shipments of subject merchandise entered, or withdrawn from warehouse, for consumption on or after January 1, 2019, through December 31, 2019, without regard to countervailing duties. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

In accordance with section 751(a)(2)(C) of the Act, Commerce also intends to instruct CBP to collect cash deposits of estimated countervailing duties at the rate determined in the final results. If Commerce continues to find that Bessan received no countervailable subsidies in the final results, no cash deposit will be required on shipments of the subject merchandise entered, or withdrawn from warehouse, for consumption on or after the date of publication of the final results of this review. For all non-reviewed firms, CBP will continue to collect cash deposits at the most recent company-specific or all-others rate applicable to the company, as appropriate. These cash deposit requirements, when imposed, shall remain in effect until further notice.

Notification to Interested Parties

These preliminary results are issued and published pursuant to sections 751(a)(1) and 777(i)(1) of the Act, and 19 CFR 351.221(b)(4).

Dated: July 27, 2021.
Christian Marsh,
Acting Assistant Secretary for Enforcement and Compliance.

Appendix

List of Topics Discussed in the Preliminary Decision Memorandum

I. Summary

II. Background

III. Scope of the Order

IV. Diversification of Turkey's Economy

V. Subsidies Valuation

VI. Analysis of Programs

VII. Recommendation

[FR Doc. 2021-16475 Filed 8-2-21; 8:45 am]

BILLING CODE 3510-DS-P